DEPARTMENT OF THE INTERIOR

Bureau of Land Management

[ES-960-1430-ET; MIES-12614, MIES-50201]

Public Land Order No. 7544; Revocation of Executive Order Dated October 16, 1866; Michigan

AGENCY: Bureau of Land Management, Interior.

ACTION: Public Land Order.

SUMMARY: This order revokes in its entirety, an Executive Order which reserved 857.62 acres of public lands for use by the United States Coast Guard for the Gull Rock and Big Sable Lighthouses. The reservation is no longer needed. This action will open 57.5 acres to surface entry. The remaining lands have either been conveyed out of Federal ownership or have been declared as excess property and reported to the General Services Administration.

EFFECTIVE DATE: November 15, 2002.

FOR FURTHER INFORMATION CONTACT: Ed Ruda, BLM Eastern States Office, 7450 Boston Boulevard, Springfield, Virginia 22153, (703) 440-1663.

SUPPLEMENTARY INFORMATION: The lands occupied by Gull Rock Lighthouse reservation have been determined to be unsuitable for return to public domain status and have been reported as excess property to the General Services Administration. All other lands, except those described in Paragraph 2 below, have been conveyed out of Federal ownership.

Order

By virtue of the authority vested in the Secretary of the Interior by section 204 of the Federal Land Policy and Management Act of 1976, 43 U.S.C. 1714 (1994), it is ordered as follows:

1. The Executive Order dated October 16, 1866, which reserved 857.62 acres of public lands for lighthouse purposes, is hereby revoked in its entirety.

2. At 10 a.m. on November 15, 2002, the following described land will be opened to the operation of the public land laws generally, subject to valid existing rights, the provisions of existing withdrawals, other segregations of record, and the requirements of applicable law. All valid applications received at or prior to 10 a.m. on November 15, 2002, shall be considered as simultaneously filed at that time. Those received thereafter shall be considered in the order of filing.

Michigan Meridian

T. 19 N., R. 18 W.,

Sec. 7, S½ lot 1 and lot 2.

The area described contains 57.5 acres in Mason County as shown by the May 28, 1839 survey plat.

Dated: October 1, 2002.
Rebecca W. Watson,
Assistant Secretary—Land and Minerals Management.

[FR Doc. 02-26249 Filed 10-15-02; 8:45 am]

BILLING CODE 4310-GJ-P